DEPARTMENT OF THE INTERIOR

Bureau of Land Management

[CA-160-1220-PG]

Meeting of the Central California Resource Advisory Council

AGENCY: Bureau of Land Management, Department of the Interior.

ACTION: Meeting of the Central California Resource Advisory Council.

SUMMARY: Pursuant to the authorities in the Federal Advisory Committee Act (Pub. L. 92-463) and the Federal Land Policy and Management Act of 1976 (sec. 309), the Bureau of Land Management Resource Advisory Council for Central California will meet in Bakersfield.

DATES: Friday and Saturday, April 12-13, 2002.

ADDRESSES: Red Lion Hotel, 2400 Camino Del Rio Court, Bakersfield, California.

SUPPLEMENTARY INFORMATION: The 12 member Central California Resource Advisory Council is appointed by the Secretary of the Interior to advise the Bureau of Land Management on public land issues. On Friday and Saturday beginning at 8 a.m., the Council will meet to discuss public land issues. The meetings are open to the public. Agenda items include a briefing on current issues and future planning by the four Field Managers of the central California region of the BLM, and an information session on healthy rangelands. There will be a Friday afternoon field trip to the Carrizo Plain National Monument. The public is welcome on the field trip, but must supply their own transportation. There will be public comment periods at 11:30 a.m. on Friday, April 12, and 1 p.m. on Saturday, April 13, at which time the Council will hear comments on any public land issue. Written comments will also be accepted, either at the meeting or at the address below.

FOR FURTHER INFORMATION CONTACT: Larry Mercer, Public Affairs Officer, Bureau of Land Management, 3801 Pegasus Drive, Bakersfield, CA 93308, telephone 661-391-6010.

Dated: February 22, 2002.
Ron Fellows,
Bakersfield Field Manager.

[FR Doc. 02-6775 Filed 3-20-02; 8:45 am]

BILLING CODE 4310-40-P